DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, email the SAMHSA Reports Clearance Officer at samhsapra@samhsa.hhs.gov.

Comments are invited on (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: SAMHSA Unified Performance Reporting Tool (SUPRT)—Project (P)—(OMB No. 0930-NEW)

SAMHSA is the agency within the U.S. Department of Health and Human Services that leads public health efforts to advance the behavioral health of the nation. SAMHSA is seeking approval for the new SAMHSA Unified Performance Reporting Tool (SUPRT)—Project (P). This tool will replace the Center for Mental Health Services' (CMHS) Infrastructure Development, Prevention, and Mental Health Promotion (IPP) Indicators (included in #0930-0285) and will serve as a single tool to collect grant-level aggregate data on target goals, actual performance, and client demographic characteristics from CMHS, Center for Substance Abuse Treatment (CSAT), and Behavioral Health Coordinating Office (988) grantees. This notice informs the public of SAMHSA's intent to develop and implement the new streamlined performance tool that will allow SAMHSA to continue to meet reporting requirements mandated by the Government Performance Results Act Modernization Act (GPRMA) of 2010, reduce grantee reporting burden, and is projected to enhance the accuracy of the collected performance data from CMHS, CSAT, and 988 grantees.

SAMHSA will use the data collected through the SUPRT-P for annual reporting required by GPRMA, grantee monitoring, and continuous improvement of its discretionary grant programs. The SUPRT-P will also align with and strengthen SAMHSA's complementary evaluation activities of its discretionary grant programs providing client services. The information collected through this process will allow SAMHSA to (1) monitor and report on implementation and overall performance of the associated grant programs; (2) advance SAMHSA's proposed performance goals; and (3) assess the accountability and performance of its discretionary grant programs, focused on efforts that promote mental health, prevent substance use, and provide treatments and supports to foster recovery.

The new SUPRT-P reflects feedback SAMHSA obtained through multiple listening sessions conducted with key stakeholders, in addition to extensive deliberations conducted by different working groups within SAMHSA. Accordingly, the SUPRT-P retains some prior questions, adds new questions, and deletes other questions from the IPP indicators and client-level performance reporting tools currently in use. The SUPRT-P will reduce client reporting burden and is projected to enhance the accuracy of the collected performance data from CMHS, CSAT, and 988 grantees by streamlining questions; incorporating questions for mental health, substance use treatment, and 988 indicators in one tool; and including indicators to assess the accountability and performance of its discretionary grants. The SUPRT-P will track data associated with the following:

• Awareness

• Demographics

• Outreach

• Partnership/Collaboration

• Prevention and Education

• Representation

• Overdose Prevention

• Screening, Referral, and Access

• Brief Intervention and Services

• Viral Hepatitis Services

• Training and Workforce Development

• Outcomes

Grantees will self-administer the SUPRT-P to provide information quarterly and annually to address certain performance indicators but will not be required to collect data for the full tool. SAMHSA will provide guidance specifying for which indicators each grantee is expected to collect and report data. These indicators represent SAMHSA's focus on the factors that contribute to the success of mental health and treatment for substance use disorders.

Send comments to the SAMHSA Reports Clearance Officer, 5600 Fishers Lane, Room 15E45, Rockville, Maryland 20857, OR email a copy to samhsapra@samhsa.hhs.gov. The draft tool can be found at https://www.samhsa.gov/grants/grants-management/performance-measures. Written comments should be received by January 20, 2026.

Alicia Broadus,
Public Health Advisor.

[FR Doc. 2025-20393 Filed 11-19-25; 8:45 am]

BILLING CODE 4162-20-P